DEPARTMENT OF HOUSING AND URBAN DEVELOPMENT

[Docket No. FR-5915-N-14]

60-Day Notice of Proposed Information Collection: Supportive Services Demonstration Resident Assessment Form

AGENCY: Office of Policy Development and Research, HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: March 10, 2017.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone 202-402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Supportive Services Demonstration Resident Assessment Form.

OMB Approval Number: Pending.

Type of Request: New.

Form Number: No forms.

Description of the Need for the Information and Proposed Use: HUD assists a large vulnerable senior population in its Section 202 and other elderly-designated properties. By virtue of their advanced ages, low-incomes and other demographic characteristics, residents in these communities have complex social, health and functional situations. The quality affordable housing provided by HUD provides a fundamental base for these individuals to age safely in their community. With housing as a key social determinant of health, HUD wishes to leverage its properties as a platform for the coordination and delivery of services to better address the interdependent health and supportive service needs of its older residents. The Fiscal Year (FY) 2014 Consolidated Appropriations Act gave HUD the authority to develop a demonstration to test a model of housing and supportive services for low-income elderly residents in HUD-assisted housing. In FY 2015, HUD announced the availability of a funding opportunity under the Supportive Services Demonstration that will provide grants to property owners to participate in the demonstration. The purpose of this demonstration is to test a model of housing and supportive services with the potential to delay nursing home care for low-income elderly residents in HUD-assisted housing. HUD aims to better manage residents' health, decrease emergency room and hospital utilization, and maintain residents' independence in their homes for a longer period of time, thus delaying or preventing transfers to a higher level of care.

Conducting this research will require the Implementation Team (The Lewin Group and our partners from Leading Age and the National Center for Healthy Aging, under HUD contract HHSP23337002T) to collect self-reported information from demonstration participants. The Implementation Team will leverage existing validated tools combined together in one comprehensive Resident Needs Assessment. The Resident Needs Assessment requests information on demographics, health status and ability to complete Activities of Daily Living (ADLs), and Instrumental Activities of Daily Living (IADLs), as well as other social and medical service information.

The Resident Needs Assessment will occur face-to-face in a private setting administered by trained enhanced service coordinators or wellness nurses. The assessment interview is expected to last an average of 90 minutes.

Respondents: This information collection will affect approximately 4,000 individuals residing in units of 40 funded demonstration sites (approximately 100 residents per property; 40 properties in total). Respondents are expected to be low-income seniors who currently reside in HUD-assisted multi-family properties. All respondents will be presented with an IRB approved informed consent form prior to participation in the demonstration. In their consent, individuals agree to the collection of data about their health and wellness. Upon consent, respondents will be requested to complete a Resident Needs Assessment within 45 days of enrollment in the demonstration.

Information will be collected in a secure web-based platform that meets all required federal regulations to track general health and service use information. Information will be attributed to individuals by name. Names and information collected in a project-specific web-based platform will link to HUD's administrative data, which HUD can be linked to Medicare and possibly Medicaid data for program evaluation purposes. All collected information will be self-reported and will inform the development of individualized healthy aging plans and property-wide health education/promotion activities and programs, including selection of specific evidence-based interventions to be implemented within demonstration sites. Additionally, results will support the evaluation of the demonstration in meeting HUD's goals and desired outcomes for the national demonstration.

The table below estimates the total burden to the public for the proposed information collection, assuming an hourly cost per response, based on the income levels of respondents. Hourly costs were estimated using FY 2016 income limits from the Office of Policy Development and Research through HUD's Web site located at https://www.huduser.gov/portal/datasets/il/il16/index.html.

HUD tiers the income levels for funded recipients at three levels: Extremely low, very low, and low. For purposes of burden estimate, we selected the “low income” tier to identify a median income level.

Further delineation of the burden estimates requires income adjustments based on the number of individuals residing with the respondent. Using HUD data to conduct data analysis, we estimate that:

• 66% of potential respondents will live alone (2650 respondents)

• 17% will reside with a spouse (690 respondents)

• 8% will reside with three people (330 respondents)

• 8% will reside with four people (330 respondents)

For HUD, the baseline for median income is based on a four-person household. For FY 2016 this was adjusted at $65,800. Adjustments for number of residents are legislated by Congress.

• A single household is adjusted at 70% of income of baseline ($46,060)

• Living with spouse is adjusted at 80% of income of baseline ($52,640)

• Living in a three-person household is adjusted at 90% of income of baseline ($59,220)

These income adjustments, based on both probability of residence status as well as adjustments based on the income baseline, are used to estimate burden of information collection in the table below.

Information collection | Number of respondents | Frequency of response | Responses per annum | Burden hour per response | Annual burden hours | Hourly cost per response | Cost
HUD Residents living alone (single household) | 2,650 | 3 | 1 | 1.5 | 3,975 | $33.21 | $132,009.75
HUD Residents living with spouse (2-person household) | 690 | 3 | 1 | 1.5 | 1,035 | 37.97 | 39,298.95
HUD Residents in 3-person household | 330 | 3 | 1 | 1.5 | 495 | 42.71 | 21,141.45
HUD Residents in 4-person household | 330 | 3 | 1 | 1.5 | 495 | 47.45 | 23,487.75
Total | 4,000 |  |  |  | 6,000 |  | 215,937.90

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: December 23, 2016.
Matthew Ammon,
General Deputy, Assistant Secretary for Policy Development and Research.

[FR Doc. 2017-00163 Filed 1-6-17; 8:45 am]

BILLING CODE 4210-67-P